DEPARTMENT OF ENERGY

Federal Energy Regulatory Commission

Combined Notice of Filings #1

Take notice that the commission received the following accounting Request filings:

Docket Numbers: AC25-111-000.

Applicants: The Toledo Edison Company.

Description: The Toledo Edison Company submits proposed final accounting entries re the consummation of the transfer of certain transmission facilities from American Transmission Systems, Incorporated to Toledo Edison Company.

Filed Date: 6/13/25.

Accession Number: 20250613-5202.

Comment Date: 5 p.m. ET 7/7/25.

Docket Numbers: AC25-112-000.

Applicants: Ohio Edison Company.

Description: Ohio Edison Company submits proposed final accounting entries re the consummation of the transfer of certain transmission facilities from American Transmission Systems, Incorporated to Ohio Edison Company.

Filed Date: 6/13/25.

Accession Number: 20250613-5203.

Comment Date: 5 p.m. ET 7/7/25.

Docket Numbers: AC25-113-000.

Applicants: FirstEnergy Pennsylvania Electric Company.

Description: FirstEnergy Pennsylvania Electric Company submits proposed final accounting entries re consummation of the transfer of certain transmission facilities from American Transmission Systems, Inc. to FirstEnergy Pennsylvania Electric Company.

Filed Date: 6/13/25.

Accession Number: 20250613-5204.

Comment Date: 5 p.m. ET 7/7/25.

Docket Numbers: AC25-114-000.

Applicants: FirstEnergy Pennsylvania Electric Company.

Description: FirstEnergy Pennsylvania Electric Company submits final journal entries to account for the consummation of certain transmission facilities transferred from Mid-Atlantic Interstate Transmission, LLC.

Filed Date: 6/13/25.

Accession Number: 20250613-5223.

Comment Date: 5 p.m. ET 7/7/25.

Take notice that the Commission received the following electric corporate filings:

Docket Numbers: EC25-103-000.

Applicants: Arizona Public Service Company.

Description: Application for Authorization Under Section 203 of the Federal Power Act of Arizona Public Service Company.

Filed Date: 6/12/25.

Accession Number: 20250612-5249.

Comment Date: 5 p.m. ET 7/3/25.

Take notice that the Commission received the following exempt wholesale generator filings:

Docket Numbers: EG25-356-000.

Applicants: Angiola East, LLC.

Description: Angiola East, LLC submits Notice of Self-Certification of Exempt Wholesale Generator Status.

Filed Date: 6/16/25.

Accession Number: 20250616-5078.

Comment Date: 5 p.m. ET 7/7/25.

Take notice that the Commission received the following electric rate filings:

Docket Numbers: ER10-2435-024.

Applicants: Camden Plant Holdings, L.L.C.

Description: Informational Filing and Request for Limited Waiver and Expedited Action of Camden Plant Holding, LLC.

Filed Date: 6/13/25.

Accession Number: 20250613-5233.

Comment Date: 5 p.m. ET 7/7/25.

Docket Numbers: ER10-2854-005.

Applicants: ConocoPhillips Company.

Description: Notice of Change in Status of ConocoPhillips Company.

Filed Date: 6/13/25.

Accession Number: 20250613-5219.

Comment Date: 5 p.m. ET 7/7/25.

Docket Numbers: ER20-3034-002.

Applicants: Midcontinent Independent System Operator, Inc., GridLiance Heartland LLC.

Description: Compliance filing: GridLiance Heartland LLC submits tariff filing per 35: 2025-06-16_Amendment to GridLiance Order 864 ADIT Additional Compliance to be effective 5/31/2021.

Filed Date: 6/16/25.

Accession Number: 20250616-5091.

Comment Date: 5 p.m. ET 7/7/25.

Docket Numbers: ER24-330-002.

Applicants: Arizona Public Service Company.

Description: Compliance filing: FERC Order Nos. 2023 and 2023-A Compliance Filing to be effective 12/4/2023.

Filed Date: 6/16/25.

Accession Number: 20250616-5157.

Comment Date: 5 p.m. ET 7/7/25.

Docket Numbers: ER24-1393-003.

Applicants: Public Service Company of New Mexico.

Description: Compliance filing: Compliance With Order No. 2023-A and April 17, 2025 Order to be effective 5/16/2025.

Filed Date: 6/16/25.

Accession Number: 20250616-5139.

Comment Date: 5 p.m. ET 7/7/25.

Docket Numbers: ER24-1915-003.

Applicants: New York Independent System Operator, Inc.

Description: Compliance filing: NYISO Compliance Filing re: Apr 2025 Order on NYISO Order No. 2023 Compliance to be effective 12/31/9998.

Filed Date: 6/16/25.

Accession Number: 20250616-5115.

Comment Date: 5 p.m. ET 7/7/25.

Docket Numbers: ER24-2517-001.

Applicants: Cube Yadkin Transmission LLC.

Description: Compliance filing: Order Nos. 2023 and 2023-A Further Compliance Filing to be effective 8/11/2024.

Filed Date: 6/16/25.

Accession Number: 20250616-5144.

Comment Date: 5 p.m. ET 7/7/25.

Docket Numbers: ER25-2518-000.

Applicants: Midcontinent Independent System Operator, Inc.

Description: § 205(d) Rate Filing: 2025-06-16_SA 3392 Entergy Arkansas-New Madrid Solar 3rd Rev GIA (J944) to be effective 6/6/2025.

Filed Date: 6/16/25.

Accession Number: 20250616-5066.

Comment Date: 5 p.m. ET 7/7/25.

Docket Numbers: ER25-2519-000.

Applicants: Southwest Power Pool, Inc.

Description: § 205(d) Rate Filing: 4400 Brock Solar GIA to be effective 5/22/2025.

Filed Date: 6/16/25.

Accession Number: 20250616-5071.

Comment Date: 5 p.m. ET 7/7/25.

Docket Numbers: ER25-2520-000.

Applicants: Flat Ridge 4 Wind, LLC.

Description: Notice of Cancellation of Market Based Rate Tariff of Flat Ridge 4 Wind, LLC.

Filed Date: 6/12/25.

Accession Number: 20250612-5247.

Comment Date: 5 p.m. ET 7/3/25.

Docket Numbers: ER25-2521-000.

Applicants: Pixley Solar Energy LLC.

Description: Notice of Cancellation of Market Based Rate Tariff of Pixley Solar Energy LLC.

Filed Date: 6/12/25.

Accession Number: 20250612-5248.

Comment Date: 5 p.m. ET 7/3/25.

Docket Numbers: ER25-2522-000.

Applicants: PJM Interconnection, L.L.C.

Description: Tariff Amendment: Notice of Cancellation of WMPA; Service Agreement No. 5693; Queue No. AF1-155 to be effective 8/16/2025.

Filed Date: 6/16/25.

Accession Number: 20250616-5074.

Comment Date: 5 p.m. ET 7/7/25.

Docket Numbers: ER25-2523-000.

Applicants: PJM Interconnection, L.L.C.

Description: § 205(d) Rate Filing: Amendment to GIA, Service Agreement No. 7256; Queue Position No. AE2-139 to be effective 8/16/2025.

Filed Date: 6/16/25.

Accession Number: 20250616-5089.

Comment Date: 5 p.m. ET 7/7/25.

Docket Numbers: ER25-2524-000.

Applicants: New Athens Generating Company, LLC, Selkirk Cogen Partners, L.P.

Description: Compliance filing: Selkirk Cogen Partners, L.P. submits tariff filing per 35: Notice of Non-Material Change in Status & MBR Tariff Revision to be effective 8/18/2025.

Filed Date: 6/16/25.

Accession Number: 20250616-5104.

Comment Date: 5 p.m. ET 7/7/25.

Docket Numbers: ER25-2525-000.

Applicants: Rock Creek Solar, LLC.

Description: Request for Limited and Prospective Waiver, et al. of Rock Creek Solar, LLC.

Filed Date: 6/16/25.

Accession Number: 20250616-5137.

Comment Date: 5 p.m. ET 7/7/25.

Take notice that the Commission received the following electric securities filings:

Docket Numbers: ES25-50-000.

Applicants: Interstate Power and Light Company.

Description: Application Under Section 204 of the Federal Power Act for Authorization to Issue Securities of Interstate Power and Light Company.

Filed Date: 6/13/25.

Accession Number: 20250613-5221.

Comment Date: 5 p.m. ET 7/7/25.

Docket Numbers: TX25-7-000.

Applicants: CED Westside Canal Battery Storage, LLC.

Description: Application for Order Directing Transmission Service and Interconnection of Facilities of CED Westside Canal Battery Storage, LLC.

Filed Date: 6/13/25.

Accession Number: 20250613-5210.

Comment Date: 5 p.m. ET 7/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 16, 2025.
Carlos D. Clay,
Deputy Secretary.

[FR Doc. 2025-11357 Filed 6-18-25; 8:45 am]

BILLING CODE 6717-01-P